DEPARTMENT OF VETERANS AFFAIRS

Blue Ribbon Panel on VA-Medical School Affiliations; Notice of Establishment

As required by Section 9(a)(2) of the Federal Advisory Committee Act, the Department of Veterans Affairs hereby gives notice of the establishment of the Department of Veterans Affairs (VA) Blue Ribbon Panel On VA-Medical School Affiliations. The Secretary of Veterans Affairs has determined that establishing the Panel is both necessary and in the public interest.

The Panel will advise the Secretary and the Under Secretary for Health on a comprehensive philosophical framework to enhance VA's partnerships with medical schools and affiliated institutions. The Panel will be guided by VA's strategic planning initiative to assure equitable, harmonious, and synergistic academic affiliations. During the Panel's deliberations, those affiliations will be broadly assessed in light of changes in medical education, research priorities, and the health care needs of veterans.

Panel members will be appointed by the Secretary and will be individuals who can effectively express the views of both large and small medical schools which are actively involved in the principal affiliation components (research, patient care and education). The Panel is expected to complete its work within 18 months after its first meeting.

Dated: June 23, 2006.
By Direction of the Secretary.
E. Philip Riggin,
Committee Management Officer.

[FR Doc. 06-5935 Filed 6-30-06; 8:45 am]

BILLING CODE 8320-01-M